DEPARTMENT OF THE TREASURY

Treasury Advisory Committee on International Child Labor Enforcement

AGENCY: Department Offices, Treasury.

ACTION: Renewal of the Treasury Advisory Committee on International Child Labor Enforcement (“the Committee”) and solicitation of applications for membership.

SUMMARY: The Treasury Department has determined that it is in the public interest to renew the Advisory Committee on International Child Labor Enforcement. The Department proposes to file a charter for an additional two-year term for the Advisory Committee by the expiration date of the current charter (June 22, 2000.) This notice establishes criteria and procedures for the selection of members for the next two-year term.

FOR FURTHER INFORMATION CONTACT: Dennis M. O'Connell, Director, Office of Tariff and Trade Affairs ((202) 622-0220), or Mary Dinh, Research Assistant, Office of Tariff and Trade Affairs ((202) 622-9062), Office of the Under Secretary (Enforcement). Pursuant to the Federal Advisory Committee Act, 5 U.S.C. App. I (1962), the Under Secretary (Enforcement) renews the following advisory committee.

Title: The Treasury Advisory Committee on International Child Labor Enforcement.

Purpose: The purpose of the Committee is to present advice and recommendations to the Secretary of the Treasury regarding the enforcement of restrictions on the importation of merchandise manufactured in foreign countries using forced or indentured child labor.

Statement of Public Interest: It is in the public to renew, under the provisions of the Federal Advisory Committee Act, the Advisory Committee on International Child Labor Enforcement for an additional two-year term. The Committee provides a critical forum for distinguished representatives of non-governmental organizations, private businesses, trade associations, academia, and the public to present their views on enforcement of the import restrictions on merchandise manufactured overseas with forced or indentured child labor. These views are offered directly to senior Treasury and Customs officials on a regular basis in a candid atmosphere. There exists no other single body that could serve a comparable function.

SUPPLEMENTARY INFORMATION:

Background

Section 307 of the Tariff Act of 1930 (19 U.S.C. 1307) prohibits the importation of “goods, wares, articles, and merchandise mined, produced, or manufactured wholly or in part in any foreign country by convict labor or/and forced labor or/and indentured labor under penal sanctions * * *.” The prohibition is enforced by the United States Customs Service in accordance with the Customs Regulations, 19 CFR 12.42-12.48. A general provision in the Fiscal Year 1998 Treasury Appropriations Act made explicit that merchandise manufactured with “forced or indentured child labor” falls within the prohibition of Section 307, and also mandated that Customs not use any of the appropriation to permit the importation into the United States of such merchandise. The provision has been renewed annually.

In the last three State of the Union addresses, President Clinton pledged to fight abusive child labor. The Advisory Committee constitutes a partnership between Executive agencies, labor and human rights advocacy groups, industry representatives, and the public to promote effective enforcement of the law and to further the President's commitment to combat abusive child labor.

Objective, Scope and Description of the Committee

The Committee advises the U.S. Treasury Department, the U.S. Customs Service, and other Executive agencies, on measures to enhance the effectiveness of enforcement of the import prohibition on merchandise manufactured in foreign countries with forced or indentured child labor. Among other matters, the Committee assists in identifying specific information resources regarding, and avenues of productive inquiry into, prohibited child labor operations overseas. A major objective of the Committee is to share the expertise of private sector, specialists regarding methods of operation employed, and international trade channels used, by manufacturers and distributors of merchandise produced with forced or indentured child labor. The ultimate purpose of this combined effort is to support a vigorous laws enforcement initiative to stop illegal shipments of products of forced or indentured child labor and to punish violators.

Among other things, the Committee makes recommendations in the following areas. The Committee may consider additional governmental and non-governmental measures to prevent child labor imports. The Committee may recommend measures and furnish information that will assist the Executive agencies in establishing a vigorous outreach and educational program calling upon industries and individuals in the private sector to promote voluntary compliance with the child labor prohibition. During its first term, the Committee established a Subcommittee on Business Outreach for this purpose. The Committee may explore avenues for encouraging the cooperation of both foreign governments and foreign non-governmental organizations in nations where child labor is widely perceived to be a serious problem in order to enlarge the reach and effectiveness of U.S. enforcement efforts and resources.

Private sector members will be selected by the Secretary of the Treasury from persons with expertise in the subject of the use of child labor in foreign countries, particularly in the production of merchandise for international trade and/or who have commercial interests that may be affected by governmental enforcement measures. Members will be drawn from such organizations as labor rights, human rights, and child welfare groups; labor unions; affected private firms and trade associations; academic experts and others who possess relevant expertise and/or who represent affected constituencies. Appointments will be made with the objective of creating a diverse and balanced body with a variety of interests, backgrounds, and viewpoints represented. In general, there will be at least twelves private sector members and not more than twenty. The Committee has seventeen private sector members during its first term. Members currently serving on the Committee are eligible to apply for appointment. The Committee also will continue to include ex officio members from relevant government agencies and entities.

The Committee will be chaired by the Assistant Secretary of the Treasury for Enforcement who may designate another official to serve in his or her absence as Acting Chairperson for purposes of presiding over a meeting of the Committee or performing any other duty of the Chairperson. The Committee will function for a two-year period before renewal or termination. It will meet periodically, but generally not more than four times per year, at the Treasury Department in Washington. The Committee may elect to hold a meeting(s) at another location if there is a consensus that this would further the objectives of the Committee.

The meetings are open to public observers, including the press, unless special procedures have been followed to close a meeting. However, participation in the meetings is limited to members unless the Committee elects to hold a hearing or to hear presentations from nonmembers.

No person who is required to register under the Foreign Agents Registration Act as an agent or representative of a foreign principal may serve on an advisory committee. Members shall not be paid compensation nor shall they be considered Federal Government employees for any purpose. No per diem, transportation, or other expenses are reimbursed for the cost of attending Committee meetings at any location.

Membership on the Committee is personal to the appointee. Regular attendance is essential to the effective operation of the Committee. However, in the event of an unavoidable absence, a member may designate an alternate to represent him or her at a meeting.

Application for Advisory Committee Appointment

Any interested person wishing to serve on the Treasury Advisory Committee on International Child Labor Enforcement must provide the following:

—Statement of interest and reasons for application;

—Complete professional biography or resume.

In addition, applicants must state in their applications that they agree to submit to pre-appointment security and tax checks. There is no prescribed format for the application. Applicants may send a cover letter describing their interest and qualifications and enclosed a resume.

The application period for interested candidates will extend to April 7, 2000. Applications should be submitted in sufficient time to be received by the close of business on the closing date and be addressed to Dennis M. O'Connell, Director, Office of Tariff and Trade Affairs, Office of the Under Secretary (Enforcement), Room 4004, Department of the Treasury, 1500 Pennsylvania Avenue, NW, Washington, DC 20220, Attention: CHILD 2000.

Dated: February 29, 2000.
John P. Simpson,
Deputy Assistant Secretary (Regional, Tariff and Trade Enforcement).

[FR Doc. 00-5361 Filed 3-3-00; 8:45 am]

BILLING CODE 4810-25-M